DEPARTMENT OF ENERGY

Request for Information on Grid Resilience and Innovation Partnerships Program

AGENCY: Grid Deployment Office, U.S. Department of Energy.

ACTION: Request for information.

SUMMARY: The U.S. Department of Energy (DOE or the Department) invites public comment on its request for information (RFI) on DOE's implementation strategy for the Grid Resilience and Innovation Partnerships (GRIP) program, including on the competitive solicitation process, draft funding opportunity announcement (FOA) language, prioritization of topics and projects, and selection criteria.

DATES: Responses to the RFI must be received by no later than 5 p.m. EDT on October 14, 2022.

ADDRESSES: Interested parties are to submit questions, comments, and responses to the Department's RFI to the following email address: GDORFI@hq.doe.gov. Include “Grid Resilience and Innovation Partnerships Program” in the subject line of the email. Responses must be provided as a Microsoft Word (.docx) or PDF attachment to the email, and no more than 20 pages in length, 12-point font, 1-inch margins. It is recommended that attachments with file sizes exceeding 25MB be compressed (i.e., zipped) to ensure message delivery. Only electronic responses will be accepted. For ease of replying and to aid categorization of your responses, please copy and paste the RFI questions, including the question numbering, and use them as a template for your response. Respondents may answer as many or as few questions as they wish. The Grid Resilience and Innovation Partnerships (GRIP) program RFI is available at: https://www.fedconnect.net/fedconnect/?doc=DE-FOA-0002827&agency=DOE. The Draft Funding Opportunity Announcement (FOA) for FY22 and FY23 GRIP funding is available at: https://www.fedconnect.net/fedconnect/?doc=DE-FOA-0002740&agency=DOE.

FOR FURTHER INFORMATION CONTACT: Please contact: Dylan Reed, (202) 586-3185, GDORFI@hq.doe.gov.

SUPPLEMENTARY INFORMATION: The Infrastructure Investment and Jobs Act (IIJA) (Pub. L. 117-58) approximately $10.5 billion for the five-year period encompassing FY22 through FY26, to prevent outages and enhance the resilience of the electric grid, deploy technologies to enhance grid flexibility, and to demonstrate innovative approaches to power sector infrastructure resilience and reliability. Together, DOE refers to these programs as the GRIP program.

The purpose of this RFI is to solicit feedback from industry, academia, research laboratories, government agencies, State and local officials, labor unions, Tribes, community-based organizations (CBOs), and other stakeholders on issues related to the GRIP program.

To help inform DOE's implementation of the IIJA provisions referenced previously, this RFI seeks input on the following categories:

1. DOE's implementation strategy and approach for the GRIP program, both overall and for each of the individual topic areas.

2. DOE's approach to Community Benefits including engagement, quality jobs, Diversity, Equity, Inclusion and Accessibility (DEIA), and Justice40.

3. Build America, Buy America requirements.

This is solely a request for information and is not a funding opportunity announcement. DOE is not accepting applications at this time and will not reimburse any of respondents' costs in preparing a response.

The complete GRIP program RFI can be found at: https://www.fedconnect.net/fedconnect/?doc=DE-FOA-0002827&agency=DOE.

The Draft FOA for FY22 and FY23 GRIP Funding can be found at: https://www.fedconnect.net/fedconnect/?doc=DE-FOA-0002740&agency=DOE.

Proprietary Information

Because information received in response to this RFI may be used to structure future programs and formula grant allocations and/or otherwise be made available to the public, respondents are strongly advised NOT to include any information in their responses that might be considered business sensitive, proprietary, or otherwise confidential. If, however, a respondent chooses to submit business sensitive, proprietary, or otherwise confidential information, it must be clearly and conspicuously marked as such in the response. Responses containing confidential, proprietary, or privileged information must be conspicuously marked as described below. Failure to comply with these marking requirements may result in the disclosure of the unmarked information under the Freedom of Information Act or otherwise. The U.S. Federal Government is not liable for the disclosure or use of unmarked information and may use or disclose such information for any purpose.

Confidential, Commercial, and Financial Information. Consistent with 10 CFR 1004.11, DOE requires that any person submitting information that he or she believes to be confidential and exempt by law from public disclosure should submit via email two well-marked copies: One copy of the document marked “Confidential Commercial and Financial Information” including all the information believed to be confidential, and one copy of the document marked “non-confidential” with the information believed to be confidential deleted. DOE will make its own determination about the confidential status of the information and treat it according to its determination. The copy containing confidential commercial and financial information must include a cover sheet marked as follows identifying the specific pages containing confidential, proprietary, or privileged information: “Notice of Restriction on Disclosure and Use of Data: Pages [list applicable pages] of this response may contain confidential, commercial, or financial information that is exempt from public disclosure.” The Government may use or disclose any information that is not appropriately marked or otherwise restricted, regardless of source. In addition, (1) the header and footer of every page that contains confidential, proprietary, or privileged information must be marked as follows: “Contains Confidential, Commercial, or Financial Information Exempt from Public Disclosure” and (2) every line and paragraph containing proprietary, privileged, or trade secret information must be clearly marked with [[double brackets]] or highlighting.

Signing Authority

This document of the Department of Energy was signed on September 1, 2022, by Maria D. Robinson, Director of the Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document on publication in the Federal Register.

Signed in Washington, DC, on September 1, 2022.
Treena V. Garrett,
Federal Register Liaison Officer, U.S. Department of Energy.

[FR Doc. 2022-19308 Filed 9-6-22; 8:45 am]

BILLING CODE 6450-01-P